DEPARTMENT OF TRANSPORTATION

Office of the Secretary

Notice of Applications for Certificates of Public Convenience and Necessity and Foreign Air Carrier Permits Filed Under Subpart B (Formerly Subpart Q) During the Week Ending April 18, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0088.

Date Filed: April 13, 2009.

Due Date for Answers, Conforming Applications, or Motion to Modify Scope: May 4, 2009.

Description: Application of Prince Edward Air Ltd. d/b/a PE Air requesting an exemption and a foreign air carrier permit to engage in scheduled foreign air transportation between Canada and the United States.

Docket Number: DOT-OST-2006-24629.

Date Filed: April 17, 2009.

Due Date for Answers, Conforming Applications, or Motion to Modify Scope: May 8, 2009.

Description: Application of Yangtze River Express Airlines Co., Ltd. (“Yangtze”) requesting an amendment to its foreign air carrier permit to allow Yangtze to engage in scheduled air transportation of property and mail between Shanghai, People's Republic of China (PVG), on the one hand, and Dallas Fort Worth, Texas (DFW) on the other hand, and to co-terminalize DFW with its existing authority for Anchorage, Alaska; Boston, Massachusetts; Los Angeles, California; and New York, New York granted previously by the Department; and additionally Yangtze requests an exemption to permit it to engage in scheduled air transportation of property and mail to the extent necessary so that it may exercise all of the rights requested in this application prior to the issuance of an amended foreign air carrier permit.

Renee V. Wright,
Program Manager, Docket Operations, Federal Register Liaison.

[FR Doc. E9-9922 Filed 4-29-09; 8:45 am]

BILLING CODE 4910-9X-P